DEPARTMENT OF ENERGY

Federal Energy Regulatory Commission

[Project No. 12767-001]

Rainier Engineering and Environmental, LLC; Notice Rejecting Filing

May 11, 2007.

On March 20, 2007, Commission staff rejected the application, filed November 13, 2006, by Rainier Engineering and Environmental, LLC (Rainer) for a preliminary permit under section 4(f) of the Federal Power Act ¹ to study the proposed Tapps Lake Dam Hydroelectric Project No. 12767, to be located at Puget Sound Energy, Inc.'s Lake Tapps Dam on the White River in Sumner, Pierce County, Washington. The application was rejected for failure to include a readable map showing a project boundary enclosing all proposed project facilities.² On April 19, 2007, Rainier requested rehearing of the Commission's decision to reject their application.

¹ 16 U.S.C. 797(f) (2000).

² See 18 CFR 4.81(d) (2006). By letter issued January 18, 2007, Commission staff notified Rainer of the deficiency in its application and gave Rainer 45 days to file an appropriate map to cure the deficiency. Rainier timely filed additional maps on February 28, 2007. However, Commission staff's March 20, 2007 letter found that the newly-submitted maps also failed to meet the requirements of section 4.81(d).

Rainer does not attribute any errors to staff's rejection of its application, but instead proffers assertedly appropriate maps to cure its application's deficiency and requests reconsideration of its application in light of its new submission.

Section 313(a) of the Federal Power Act, 16 U.S.C. 825l, requires an aggrieved party to file its request for rehearing within 30 days after the issuance of the Commission order and to set forth specifically the ground or grounds upon which such request is based. Rainier's rehearing request raises no specific allegations of error with respect to the staff's order. Therefore, it must be rejected.³

³ In addition, the pleading as filed is deficient because it failed to include a Statement of Issues, as required by Revision of Rules of Practice and Procedure Regarding Issue Identification, Order No. 663, 70 FR 55,723 (September 23, 2005), FERC Statutes and Regulations ¶ 31,193 (2005) as amended by Order 663-A, effective March 23, 2006, to limit its applicability to rehearing requests. Revision of Rules of Practice and Procedure Regarding Issue Identification, Order No. 663-A, 71 FR 14,640 (March 23, 2006), FERC Statutes and Regulations ¶ 31,211 (2006) (codified at 18 CFR 385.203(a)(7) and 385.713(c)(2) (2006)).

In any event, the submission of additional factual evidence in a request for rehearing is contrary to Commission policy,⁴ so Rainier's newly-submitted maps would not have been accepted to reverse staff's rejection of the application.⁵

It appears moreover that Rainier late filed ⁶ its permit application ⁷ in competition with the preliminary permit application filed by Don L. Hansen in Project No. 12685.

⁴ See, e.g., Northeast Hydrodevelopment Corporation, 42 FERC ¶ 61,066 n. 6 (1988) (the Commission does not consider information an applicant submits on rehearing of staff's dismissal of the application, since the issue before the Commission is whether the staff's dismissal was appropriate). See also, e.g., Koch Gateway Pipeline Company, 75 FERC ¶ 61,132 at 61,456 (1996) (explaining general policy against receipt of additional information on rehearing).

⁵ Furthermore, the new maps did not cure the deficiencies in Rainier's permit application in that they do not include a project boundary that encloses all project features, including the reservoir, and they do not delineate all project features, including the project's dam, intake structure, and transmission line, as section 4.81(d) of the Commission's regulations requires.

⁶ The August 10, 2006 notice of Mr. Hanson's application required the filing of competing permit applications by 30 days following October 10, 2006, i.e., by Thursday, November 9, 2006. Rainier filed its competing application after business hours on November 9, 2006. Under 18 CFR 385.2001(c)(2) (2006), any document received after regular business hours is considered filed on the next business day. Since Friday, November 10, 2006, was a holiday, the next business day was Monday, November 13, 2006.

⁷ Finally, Rainier filed its application electronically, which is prohibited by 18 CFR 385.2003(c)(1)(i) (2006), since preliminary permit applications are not included among the documents that are qualified for electronic filing.

This notice constitutes final agency action. Request for rehearing this rejection notice must be filed within 30 days of the date of issuance of this notice, pursuant to 18 CFR 385.713 (2006).

Kimberly D. Bose,
Secretary.

[FR Doc. E7-9682 Filed 5-18-07; 8:45 am]

BILLING CODE 6717-01-P